ENVIRONMENTAL PROTECTION AGENCY

[ER-FRL-9038-7]

Environmental Impact Statements; Notice of Availability

Responsible Agency: Office of Federal Activities, General Information (202) 564-7156 or https://www2.epa.gov/nepa.

Weekly receipt of Environmental Impact Statements

Filed 04/09/2018 through 04/13/2018

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180064, Final, NPS, NCPC, DC, South Mall Campus Master Plan, Review Period Ends: 05/21/2018, Contact: Matthew Flis 202-482-7236

EIS No. 20180065, Final, TVA, TN, Cumberland Fossil Plant Coal Combustion Residuals Management Operations, Review Period Ends: 05/21/2018, Contact: Ashley Pilakowski 865-632-2256

EIS No. 20180066, Draft, FTA, TX, DART Cotton Belt Corridor Regional Rail Project DEIS, Comment Period Ends: 06/04/2018, Contact: Melissa Foreman 817-978-0554

Amended Notices

Revision to the Federal Register Notice published 03/09/2018, extend comment period from 04/23/2018 to 06/07/2018,

EIS No. 20180031, Draft, BLM, UT, Greater Chapita Wells Natural Gas Infill Project, Contact: Stephanie Howard 435-781-4469

Dated: April 17, 2018.
Kelly Knight,
Director, NEPA Compliance Division, Office of Federal Activities.

[FR Doc. 2018-08271 Filed 4-19-18; 8:45 am]

BILLING CODE 6560-50-P